DEPARTMENT OF HEALTH AND HUMAN SERVICES

Centers for Disease Control and Prevention

[Docket Number NIOSH-238]

Issuance of Final Guidance Publication

AGENCY: National Institute for Occupational Safety and Health (NIOSH) of the Centers for Disease Control and Prevention (CDC), Department of Health and Human Services (HHS).

ACTION: Notice of issuance of final guidance publication.

SUMMARY: The National Institute for Occupational Safety and Health (NIOSH) of the Centers for Disease Control and Prevention (CDC), announces the availability of the following publication: NIOSH Alert entitled “Preventing Occupational Respiratory Disease from Exposures Caused by Dampness in Office Buildings, Schools, and Other Nonindustrial Buildings” [2013-102].

ADDRESSES: This document may be obtained at the following link:

• Web site: http://www.cdc.gov/niosh/docs/2013-102/.

FOR FURTHER INFORMATION CONTACT: Michelle R. Martin, M.S., NIOSH/CDC, 1095 Willowdale Road, Morgantown, WV 26505, telephone (304) 285-5734, email mrmartin1@cdc.gov.

Dated: December 4, 2012.
John Howard,
Director, National Institute for Occupational Safety and Health, Centers for Disease Control and Prevention.

[FR Doc. 2012-30081 Filed 12-12-12; 8:45 am]

BILLING CODE 4163-19-P